DEPARTMENT OF THE INTERIOR

Bureau of Reclamation

[RR03250000; XXXR4079V1; RA.R3441003.0960000]

Notice of Cancellation To Prepare a Draft Environmental Impact Statement for the San Carlos Irrigation Project, Arizona

AGENCY: Bureau of Reclamation, Interior.

ACTION: Notice.

SUMMARY: The Bureau of Reclamation (Reclamation) is terminating preparation of an Environmental Impact Statement (EIS) for the San Carlos Irrigation Project. The proposed project scope has been modified, and Reclamation has determined that an Environmental Assessment (EA) rather than an EIS is the appropriate level of environmental documentation for the proposed action.

FOR FURTHER INFORMATION CONTACT: Mr. Sean Heath at (623) 773-6250, or email at sheath@usbr.gov.

SUPPLEMENTARY INFORMATION: The proposed project includes rehabilitation and modernization of San Carlos Irrigation Project Joint Works and District Works irrigation canals. Primary components of the rehabilitation are the lining of all or most of the main canals with concrete to reduce seepage and evaporation losses from the system, the modification of the canal prism (cross-sections and profiles) to increase system efficiency, the inclusion of a water storage facility, and modernized measurement and control amenities to improve delivery service. To protect and preserve the new lined conveyance system, separate storm water drainage facilities would be dedicated to cross drainage storm water management.

A Notice of Intent to prepare the EIS for the San Carlos Irrigation Project was published in the Federal Register on August 31, 2010 (75 FR 53332). The proposed action was originally scoped as an EIS. Publication of the Federal Register notice was followed with a scoping letter to potentially interested individuals, organizations, tribes, and agencies, and posting of the notice on Reclamation's Phoenix Area Office Web site. In addition, a news release was submitted to 12 news media outlets. Two public scoping meetings were held to solicit public comment. Reclamation received nine comment letters regarding the proposed action, none of which identified potentially significant effects to the human environment.

The Notice of Intent described a proposal to rehabilitate and line up to 40 miles of major canals, such as the Florence-Casa Grande, Casa Grande, and North Side canals, along with construction of new check structures and cross-drainage features. During preparation of the EIS, a new alternative was subsequently developed that would reduce potential environmental impacts of the project. The new alternative would accommodate the delivery of irrigation flows during construction, thereby reducing potential adverse impacts to sensitive riparian habitat and bird species on the Gila River. Furthermore, the geographic scope of the rehabilitation was reduced from 40 miles to 25 miles. Reclamation has not identified other environmental effects of the proposed action that are potentially significant and would warrant us to consider preparation of an EIS over an EA. Based on the reduction in scope, and the limited response to solicitation of comments, Reclamation has determined that an EA is the appropriate level of environmental analysis for the proposed action.

Dated: September 8, 2016.
Marc Maynard,
Acting Regional Director, Lower Colorado Region.

[FR Doc. 2016-22053 Filed 9-13-16; 8:45 am]

BILLING CODE 4332-90-P